DEPARTMENT OF TRANSPORTATION

Federal Highway Administration

Notice To Rescind Notice of Intent (NOI) To Prepare an Environmental Impact Statement: Dane County, Wisconsin

AGENCY: Federal Highway Administration (FHWA), Department of Transportation (DOT).

ACTION: Notice to rescind Notice of Intent for an Environmental Impact Statement.

SUMMARY: FHWA, in cooperation with the Wisconsin Department of Transportation (WisDOT), is issuing this notice to advise the public that FHWA will not be preparing an Environmental Impact Statement (EIS) for the United States Highway (US) 51 corridor located in Dane County, Wisconsin, between US 12/18 and Wisconsin State Highway (WIS) 19. FHWA is rescinding the NOI because the project has been downscoped.

FOR FURTHER INFORMATION CONTACT: Lisa Hemesath, Environmental Protection Specialist, Federal Highway Administration, 525 Junction Road, Suite 8000, Madison, Wisconsin, 53717-2157, Telephone: (608) 829-7503. You may also contact Jeff Berens, Project Manager, Wisconsin Department of Transportation, Southwest Region, 2101 Wright Street, Madison, WI 53704 Telephone: (608) 245-2656.

SUPPLEMENTARY INFORMATION: FHWA, in cooperation with the Wisconsin Department of Transportation (WisDOT), is issuing this notice to advise the public that FHWA will not be preparing an Environmental Impact Statement (EIS) for the United States Highway (US) 51 corridor located in Dane County, Wisconsin, between US 12/18 and Wisconsin State Highway (WIS) 19. FHWA issued the NOI to prepare an EIS in the Federal Register on August 6, 2012, at 77 FR 46790, for an approximate 11-mile corridor improvement project on US 51. The improvements were being considered to address existing and future transportation demand on US 51, safety concerns and operational concerns and to identify land which may need to be preserved for future transportation improvements. Based on further review of the project, it was determined appropriate for the project scope to be reduced due to changes in project needs and the local environment.

New Federal-aid studies are proposed for this corridor which will comply with the environmental requirements of the National Environmental Policy Act (NEPA) (42 U.S.C. 4321), FHWA environmental regulations (23 CFR part 771) and related authorities, as appropriate. Comments or questions concerning this notice of rescission or the future studies should be directed to FHWA or WisDOT at the addresses provided above.

Glenn Fulkerson,
Division Administrator, FHWA Wisconsin Division, Madison, Wisconsin.

[FR Doc. 2024-09091 Filed 4-26-24; 8:45 am]

BILLING CODE 4910-RY-P